DEPARTMENT OF COMMERCE

International Trade Administration

[A-201-830]

Carbon and Certain Alloy Steel Wire Rod From Mexico: Amended Final Results of Antidumping Duty Administrative Review, and Final Determination of No Shipments; 2018-2019

AGENCY: Enforcement and Compliance, International Trade Administration, Department of Commerce.

SUMMARY: The Department of Commerce (Commerce) is amending the final results of the administrative review of the antidumping duty order on carbon and certain alloy steel wire rod (wire rod) from Mexico to correct a ministerial error. The period of review (POR) is October 1, 2018, through September 30, 2019.

DATES: Applicable September 14, 2021.

FOR FURTHER INFORMATION CONTACT: Benjamin A. Smith, AD/CVD Operations, Office III, Enforcement and Compliance, International Trade Administration, U.S. Department of Commerce, 1401 Constitution Avenue NW, Washington, DC 20230; telephone: (202) 482-2181.

Background

On August 16, 2021, Commerce disclosed its calculations for the Final Results ¹ to interested parties.² On August 23, 2021, we received a ministerial error allegation from Nucor Corporation (Nucor), a domestic interested party, regarding Commerce's home market program calculations.³ No other party made an allegation of ministerial errors or submitted a reply to Nucor's ministerial error allegation.

¹ See Carbon and Certain Alloy Steel Wire Rod from Mexico: Final Results of Antidumping Duty Administrative Review, and Final Determination of No Shipments; 2018-2019, 86 FR 46179 (August 18, 2021) (Final Results).

² See Memorandum, “Final Calculation Memorandum for Deacero S.A.P.I. de C.V. and Deacero USA, Inc.,” dated August 11, 2021.

³ See Nucor's Letter, “Carbon and Certain Alloy Steel Wire Rod from Mexico: Ministerial Error Comments,” dated August 23, 2021.

Legal Framework

Section 751(h) of the Tariff Act of 1930, as amended (the Act), defines a “ministerial error” as including “errors in addition, subtraction, or other arithmetic function, clerical errors resulting from inaccurate copying, duplication, or the like, and any other unintentional error which the administering authority considers ministerial.” With respect to final results of administrative reviews, 19 CFR 351.224(e) provides that Commerce “will analyze any comments received and, if appropriate, correct any ministerial error by amending . . . the final results of review . . . .”

Ministerial Error

Commerce agrees with Nucor that Commerce made an inadvertent, unintentional error in the Final Results within the meaning of section 751(h) of the Act and 19 CFR 351.224(f) with respect to treatment of reported late payment fees in the margin calculation for the sole mandatory respondent, Deacero S.A.P.I de C.V. (Deacero). Accordingly, Commerce determines that, in accordance with section 751(h) of the Act and 19 CFR 351.224(f), it made a ministerial error in the Final Results.

For a complete discussion of the ministerial error allegation, as well as Commerce's analysis, see the accompanying Ministerial Error Memorandum.⁴ The Ministerial Error Memorandum is a public document and is on file electronically via Enforcement and Compliance's Antidumping and Countervailing Duty Centralized Electronic Service System (ACCESS). ACCESS is available to registered users at https://access.trade.gov.

⁴ See Memorandum, “Carbon and Certain Alloy Steel Wire Rod from Mexico: Allegation of a Ministerial Error in the Antidumping Administrative Review; 2018-2019 Final Results,” dated concurrently with this memorandum (Ministerial Error Memorandum).

Pursuant to 19 CFR 351.224(e), Commerce is amending the Final Results to reflect the correction of a ministerial error in the calculation of the weighted-average dumping margin assigned to Deacero in the Final Results, which changes from 9.82 percent to 9.84 percent. Furthermore, we are revising the review-specific, weighted-average dumping margin applicable to the companies not selected for individual examination in this administrative review, Talleres y Aceros S.A. de C.V. (Talleres y Aceros), and Ternium Mexico S.A. de C.V. (Ternium), which is based entirely on Deacero's weighted-average dumping margin.⁵

⁵ See Final Results, 86 FR at 46180.

Amended Final Results

As a result of correcting the ministerial error, Commerce determines that the following weighted-average dumping margins exist for the period October 1, 2018, through September 30, 2019:

Producers/exporters | Weighted- average dumping margins (percent)
Deacero S.A.P.I de C.V | 9.84
Talleres y Aceros S.A. de C.V | 9.84
Ternium Mexico S.A. de C.V | 9.84

Disclosure

We intend to disclose the calculations performed to parties in this proceeding within five days after publication of these amended final results in the Federal Register, in accordance with 19 CFR 351.224(b).

Assessment Rates

Pursuant to section 751(a)(2)(A) of the Act, and 19 CFR 351.212(b)(1), Commerce will determine, and CBP shall assess, antidumping duties on all appropriate entries of subject merchandise in accordance with the amended final results of this review.

For Deacero, Commerce has calculated importer-specific antidumping duty assessment rates by aggregating the total amount of dumping calculated for the examined sales of each importer and dividing each of these amounts by the total entered value associated with those sales in accordance with 19 CFR 351.212(b)(1). Pursuant to 19 CFR 351.106(c)(2), we will instruct CBP to liquidate without regard to antidumping duties any entries for which the importer-specific assessment rate is zero or de minimis. For entries of subject merchandise during the POR produced by Deacero for which it did not know its merchandise was destined for the United States, we will instruct CBP to liquidate unreviewed entries at the all-others rate if there is no rate for the intermediate company(ies) involved in the transaction. For the companies not selected for individual examination, we will instruct CBP to apply an assessment rate to all entries produced and/or exported by those companies equal to the dumping margin indicated above. Commerce intends to issue assessment instructions to CBP 41 days after the date of publication of these amended final results of review.⁶

⁶ See 19 CFR 356.8(a).

Cash Deposit Requirements

The following cash deposit requirements will be effective retroactively for all shipments of subject merchandise entered, or withdrawn from warehouse, for consumption on or after August 18, 2021, the publication date of the Final Results of this administrative review, as provided by section 751(a)(2) of the Act: (1) For producers or exporters covered in this administrative review, the cash deposit rates will be the rates established in the final results of this administrative review; (2) for producers or exporters not covered in this administrative review but covered in a prior segment of the proceeding, the cash deposit rate will continue to be the company-specific rate published for the most recent period; (3) if the exporter is not a firm covered in this review, a prior review, or the original investigation, but the producer is, then the cash deposit rate will be the rate established for the most recent period for the producer of the merchandise; and (4) the cash deposit rate for all other producers or exporters will continue to be 20.11 percent, the all-others rate established in the investigation.⁷ These cash deposit requirements, when imposed, shall remain in effect until further notice.

⁷ See Notice of Antidumping Duty Orders: Carbon and Certain Alloy Steel Wire Rod from Brazil, Indonesia, Mexico, Moldova, Trinidad and Tobago, and Ukraine, 67 FR 65945, 65947 (October 29, 2002).

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing this notice in accordance with sections 751(h) and 777(i)(1) of the Act, and 19 CFR 351.224(e).

Dated: September 7, 2021.
Christian Marsh,
Acting Assistant Secretary for Enforcement and Compliance.

[FR Doc. 2021-19710 Filed 9-13-21; 8:45 am]

BILLING CODE 3510-DS-P